DEPARTMENT OF DEFENSE

Department of the Navy

Notice of Intent To Grant Exclusive Patent License; Marine Desalination Systems, LLC

AGENCY: Department of the Navy, DOD.

ACTION: Notice.

SUMMARY: The Department of the Navy hereby gives notice of its intent to grant to Marine Desalination Systems, LLC., revocable, nonassignable, exclusive license in the United States, to practice the Government-owned invention described in U.S. Patent No. 5,873,262 entitled “Desalination Through Methane Hydrate” issued February 23, 1999.

DATES: Anyone wishing to object to the grant of this license must file written objections along with supporting evidence, if any, not later than September 25, 2000.

ADDRESSES: Written objections are to be filed with the Office of Naval Research, ONR 00CC, Ballston Tower One, 800 North Quincy Street, Arlington, Virginia 22217-5660.

FOR FURTHER INFORMATION CONTACT: Catherine M. Cotell, Ph.D., Head, Technology Transfer Office, NRL Code 1004, 4555 Overlook Avenue, SW, Washington, DC 20375-5320, telephone (202)767-7230.

(Authority: 35 U.S.C. 207, 37 CFR Part 404)

Dated: July 18, 2000.
J.L. Roth,
Lieutenant Commander, Judge Advocate General's Corps, U.S. Navy, Federal Register Liaison Officer.

[FR Doc. 00-19022 Filed 7-26-00; 8:45 am]

BILLING CODE 3810-FF-P